DEPARTMENT OF COMMERCE

National Oceanic and Atmospheric Administration

RIN 0648-XF397

Mid-Atlantic Fishery Management Council (MAFMC); Public Meeting

AGENCY: National Marine Fisheries Service (NMFS), National Oceanic and Atmospheric Administration (NOAA), Commerce.

ACTION: Notice; public meeting.

SUMMARY: The Mid-Atlantic Fishery Management Council's (MAFMC) Ecosystem and Ocean Planning Committee will hold a public meeting.

DATES: The meeting will be held via webinar on Friday, May 19, 2017, from 9 a.m. to 12 p.m.

ADDRESSES: The meeting will take place via webinar and can be accessed at: http://mafmc.adobeconnect.com/eop_comm_may2017/. To access via telephone, dial 1-800-832-0736 and use room number 5068871.

FOR FURTHER INFORMATION CONTACT: Christopher M. Moore, Ph.D., Executive Director, Mid-Atlantic Fishery Management Council, telephone: (302) 526-5255.

SUPPLEMENTARY INFORMATION: The MAFMC's Ecosystem and Ocean Planning Committee will meet to discuss the proposed rule for the MAFMC's Unmanaged Forage Omnibus Amendment, which published in the Federal Register on April 24, 2017 (82 FR 18882). The propose rule states that NMFS is considering disapproval of inclusion of bullet mackerel (Auxis rochei) and frigate mackerel (Auxis thazard) in the amendment. The Committee will consider if a Council response to this potential disapproval is warranted and, if so, will develop recommendations for a Council response to NMFS. Relevant background information can be found on the MAMFC Web site: www.mamfc.org.

Although other non-emergency issues not on the agenda may come before this group for discussion, in accordance with the Magnuson-Stevens Fishery Conservation and Management Act, those issues may not be the subject of formal action during this meeting. Actions of the Council will be restricted to those issues specifically identified in the agenda and any issues arising after publication of this notice that require emergency action under Section 305(c) of the Magnuson-Stevens Fishery Conservation and Management Act, provided the public has been notified of the Council's intent to take action to address the emergency.

Special Accommodations

The meeting is physically accessible to people with disabilities. Requests for sign language interpretation or other auxiliary aid should be directed to M. Jan Saunders, (302) 526-5251, at least 5 days prior to the meeting date.

Dated: May 3, 2017.
Tracey L. Thompson,
Acting Deputy Director, Office of Sustainable Fisheries, National Marine Fisheries Service.

[FR Doc. 2017-09218 Filed 5-5-17; 8:45 am]

BILLING CODE 3510-22-P